DEPARTMENT OF THE INTERIOR

Fish and Wildlife Service

DEPARTMENT OF COMMERCE

National Oceanic and Atmospheric Administration

[Docket No. FWS-R9-ES-2011-0104; 120206102-4517-02; 4500030114]

RIN 1018-AX87; 0648-BB82

Policy Regarding Implementation of Section 4(b)(2) of the Endangered Species Act

AGENCIES: Fish and Wildlife Service, Interior; National Marine Fisheries Service, National Oceanic and Atmospheric Administration, Commerce.

ACTION: Notice; extension of comment period.

SUMMARY: We, the U.S. Fish and Wildlife Service (FWS) and the National Marine Fisheries Service (NMFS) (collectively referred to as the “Services” or “we”), announce the extension of the public comment period on our May 12, 2014, draft policy regarding implementation of section 4(b)(2) of the Endangered Species Act. Comments previously submitted need not be resubmitted, as they will be fully considered in preparation of the final policy.

DATES: We will accept comments from all interested parties until October 9, 2014. Please note that if you are using the Federal eRulemaking Portal (see ADDRESSES section, below), the deadline for submitting an electronic comment is 11:59 p.m. Eastern Time on this date.

ADDRESSES: You may submit comments by one of the following methods:

• Federal eRulemaking Portal: http://www.regulations.gov. In the Search box, enter the docket number for the draft policy, which is FWS-R9-ES-2011-0104. You may submit a comment by clicking on “Comment Now!” Please ensure that you have found the correct rulemaking before submitting your comment.

• U.S. mail: Public Comments Processing, Attn: Docket No. FWS-R9-ES-2011-0104; Division of Policy and Directives Management; U.S. Fish and Wildlife Service; 4401 N. Fairfax Drive, MS 2042-PDM; Arlington, VA 22203.

We will post all comments on http://www.regulations.gov. This generally means that we will post any personal information you provide us (see the Public Comments section, below, for more information).

FOR FURTHER INFORMATION CONTACT: Douglas Krofta, U.S. Fish and Wildlife Service, Division of Conservation and Classification, 4401 N. Fairfax Drive, Suite 420, Arlington, VA 22203; telephone 703/358-2171; facsimile 703/358-1735; or Marta Nammack, National Marine Fisheries Service, Office of Protected Resources, 1315 East-West Highway, Silver Spring, MD 20910; telephone 301/713-8469; facsimile 301/713-0376. If you use a telecommunications device for the deaf (TDD), call the Federal Information Relay Service (FIRS) at 800/877-8339.

SUPPLEMENTARY INFORMATION:

Public Comments

We will accept written comments and information during this extended comment period on our draft policy regarding implementation of section 4(b)(2) of the Endangered Species Act of 1973, as amended (Act; 16 U.S.C. 1531 et seq.), that was published in the Federal Register on May 12, 2014 (79 FR 27052). We will consider information we receive from all interested parties on or before the close of the comment period (see DATES).

If you submitted comments or information during the public comment period that began May 12, 2014, please do not resubmit them. We have incorporated them into the public record, and we will fully consider them in the preparation of our final policy.

You may submit your comments and materials by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Background

On May 12, 2014, we published three related documents concerning designation and implementation of critical habitat under the Act: Two proposed regulation amendments and one draft policy. This notice extends the comment period for the draft policy, and a separate document published elsewhere in today's issue of the Federal Register extends the comment periods for the two proposed regulation amendments. The document for which we are extending the comment period in this notice announces a draft policy regarding implementation of section 4(b)(2) of the Act.

Specifically, the draft policy on exclusions from critical habitat under the Act provides the Services' position on how we consider partnerships and conservation plans, conservation plans permitted under section 10 of the Act, tribal lands, national security and homeland security impacts and military lands, Federal lands, and economic impacts in the exclusion process. The draft policy is meant to complement the amendments to our regulations regarding impact analyses of critical habitat designations and is intended to clarify expectations regarding critical habitat and provide for a credible, predictable, and simplified critical-habitat-exclusion process.

Authors

The primary authors of this notice are the staff members of the Endangered Species Program, Headquarters Office, U.S. Fish and Wildlife Service.

Authority

The authority for this action is the Endangered Species Act of 1973, as amended (16 U.S.C. 1531 et seq.).

Dated: June 17, 2014.
Michael J. Bean,
Acting Principal Deputy Assistant Secretary for Fish and Wildlife and Parks.
Dated: June 17, 2014.
Samuel D. Rauch III,
Deputy Assistant Administrator for Regulatory Programs, National Marine Fisheries Service.

[FR Doc. 2014-14773 Filed 6-25-14; 8:45 am]

BILLING CODE 4310-55-P; 3510-22-P